DEPARTMENT OF ENERGY

Senior Executive Service Performance Review Board

AGENCY: Department of Energy.

ACTION: Designation of Performance Review Board Standing Register.

SUMMARY: This notice provides the Performance Review Board Standing Register for the Department of Energy. This listing supersedes all previously published lists of PRB members.

DATES: This appointment is applicable as of September 30, 2017.

Alexander, Kathleen

Allison, Jeffrey

Barhydt, Laura

Black, Steven

Dixon, Robert

Donaldson, Jason

Grose, Amy

Johnson, Thomas

Kaplan, Stan

Lee, Terri

LeBeau, Tracey

Martin, Stephanie

Mays, Cynthia

Mollot, Darren

Moore, Johnny

Nelson-Jean, Natalie

O'Konski, Peter

Reilly, Thomas

Sissel, Ronald

Issued in Washington, DC on September 26, 2017.
Erin S. Moore,
Director, Office of Corporate Executive Management, Office of the Chief Human Capital Officer.

[FR Doc. 2017-23165 Filed 10-24-17; 8:45 am]

BILLING CODE 6450-01-P